DEPARTMENT OF TRANSPORTATION

Federal Highway Administration

Notice of Final Federal Agency Actions on MoPac (Loop 1) Intersections, Travis County, Texas

AGENCY: Federal Highway Administration (FHWA), U.S. DOT

ACTION: Notice of limitation on claims for judicial review of actions by TxDOT and Federal agencies.

SUMMARY: On February 19, 2016, the Texas Department of Transportation (TxDOT) issued a notice for the approval of the Final Environmental Assessment (Final EA) and the Finding of No Significant Impact (FONSI) for the proposed highway project, MoPac (Loop 1) Intersections from North of Slaughter Lane to South of La Crosse Avenue in Travis County, Texas. This notice applies solely to actions by TxDOT and Federal agencies which occurred subsequent to the publication of the prior notice and does not apply to actions addressed in the prior notice.

DATES: By this notice, TxDOT is advising the public of final agency actions subject to 23 U.S.C. 139(l)(1). A claim seeking judicial review of the Federal agency actions on the highway project will be barred unless the claim is filed on or before December 26, 2017. If the Federal law that authorizes judicial review of a claim provides a time period of less than 150 days for filing such claim, then that shorter time period still applies.

FOR FURTHER INFORMATION CONTACT: Mr. Carlos Swonke, Environmental Affairs Division, Texas Department of Transportation, 125 East 11th Street, Austin, Texas 78701; telephone: (512) 416-2734; email: carlos.swonke@txdot.gov. TxDOT's normal business hours are 8:00 a.m. to 5:00 p.m. (central time), Monday through Friday.

SUPPLEMENTARY INFORMATION: Notice is hereby given that TxDOT and Federal agencies have taken final agency actions by issuing licenses, permits, and approvals regarding the following highway project in the State of Texas: MoPac (Loop 1) Intersections, Travis County, Texas.

This notice announces the following actions relating to the proposed Loop 1 Intersections project taken by TxDOT and Federal agencies which occurred subsequent to the publication of the prior notice and that are final within the meaning of 23 U.S.C. 139(l)(1): TxDOT's reevaluation of the Loop 1 Intersections project (Reevaluation); and TxDOT's effect determination and conclusion of informal consultation with U.S. Fish and Wildlife Service (USFWS) pursuant to Section 7 of the Endangered Species Act. Those actions grant licenses, permits, and approvals for the project.

Subsequent to completion of the Final EA and FONSI in December 2015 and issuance of the prior notice on February 19, 2016, TxDOT performed a Reevaluation to examine the potential effects of the proposed Loop 1 Intersections project on the golden-cheeked warbler (GCW) (Setophaga chrysoparia), Austin blind salamander (ABS) (Eurycea waterlooensis), Barton Springs salamander (BSS) (Eurycea sosorum), and designated critical habitat for the ABS. In the Reevaluation, TxDOT concluded that the Loop 1 Intersections project may affect but is not likely to adversely affect the GCW, ABS, and BSS and that the project would result in no adverse modification of designated critical habitat for the ABS. Further, TxDOT determined that a Supplemental Environmental Assessment was not necessary.

Pursuant to the Endangered Species Act, 16 U.S.C. 1531-1544, USFWS issued its concurrence with TxDOT's determination that the Loop I Intersections project may affect but is not likely to adversely affect the GCW, ABS, and BSS and that the project would result in no adverse modification of designated critical habitat for the ABS.

The actions by TxDOT and the Federal agencies, and the laws under which such actions were taken, are described in the Reevaluation, signed on June 28, 2017, and in the USFWS concurrence letter issued on June 23, 2017. The Reevaluation, USFWS concurrence letter, and other documents in the administrative record file are available by contacting TxDOT at the address provided above.

This notice applies to all TxDOT decisions and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers), 23 U.S.C. 319.

4. Wildlife: Endangered Species Act [16 U.S.C. 1531-1544 and Section 1536]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species; E.O. 12372, Intergovernmental Review of Federal Programs.

The environmental review, consultation, and other actions required by applicable Federal environmental laws for this project are being, or have been, carried out by TxDOT pursuant to 23 U.S.C. 327 and a Memorandum of Understanding dated December 16, 2014, and executed by FHWA and TxDOT.

Authority: 23 U.S.C. 139(l)(1).

Issued on: July 11, 2017.
Michael T. Leary,
Director, Planning and Program Development, Federal Highway Administration.

[FR Doc. 2017-15030 Filed 7-27-17; 8:45 am]

BILLING CODE P